DEPARTMENT OF HEALTH AND HUMAN SERVICES

Health Resources and Services Administration

Advisory Council; Notice of Meeting

AGENCY: Health Resources and Services Administration, HHS.

ACTION: Notice of meeting.

In accordance with section 10(a)(2) of the Federal Advisory Committee Act (Pub. L. 92-463), announcement is made of the following National Advisory body scheduled to meet during the month of October 2001:

Name: National Advisory Council on Migrant Health.

Date & Time: October 25, 2001; 9 a.m. to 5 p.m.; October 26, 2001; 9 a.m. to 1 p.m.; October 27, 2001; 8 a.m. to 11 a.m.

Place: Renaissance Asheville Hotel, 1 Thomas Wolfe Plaza, Asheville, North Carolina 28801, Phone: (828) 252-8211; Fax (828) 236-9691.

The meeting is open to the public.

Agenda: This will be a meeting of the Council. The agenda includes an overview of general Council business activities and priorities. Topics of discussion will include development of expert background papers to support the Council's recommendations and the development of future recommendations. The Council will hear presentations from experts on farmworker issues in North Carolina, research on pesticide exposure in adults, and the North Carolina Area Health Education Center (AHEC) program. In addition, the Council will be holding a public hearing at which migrant farmworkers will have the opportunity to testify before the Council regarding matters that affect their health. The hearing is scheduled for Saturday, October 27 from 8 to 11 a.m. at the Renaissance Asheville Hotel.

The Council meeting is being held in conjunction with the annual East Coast Migrant Stream Forum sponsored by the North Carolina Primary Health Care Association, which is being held in Asheville during the same period of time.

Anyone requiring information regarding the subject Council should contact Judy Rodgers, Migrant Health Program, staff support to the National Advisory Council on Migrant Health, Bureau of Primary Health Care, Health Resources and Services Administration, 4350 East-West Highway, Bethesda, Maryland 20814, Telephone 301/594-4304.

Agenda items are subject to change as priorities indicate.

Dated: October 9, 2001.
Jane M. Harrison,
Director, Division of Policy Review and Coordination.

[FR Doc. 01-25765 Filed 10-12-01; 8:45 am]

BILLING CODE 4165-15-P